DEPARTMENT OF AGRICULTURE

Animal and Plant Health Inspection Service

7 CFR Part 300

[Docket No. 02-026-3]

Hot Water Dip Treatment for Mangoes

AGENCY: Animal and Plant Health Inspection Service, USDA.

ACTION: Proposed rule.

SUMMARY: We propose to amend the Plant Protection and Quarantine Treatment Manual, which is incorporated by reference into the Code of Federal Regulations, by amending the hot water dip treatment schedule for rounded varieties of mangoes imported into the United States from Mexico or Central America to provide for the treatment of mangoes weighing between 701 and 900 grams. Currently, that hot water dip treatment schedule provides only for the treatment of mangoes weighing up to 700 grams. This action would allow larger, rounded varieties of mangoes from Mexico or Central America to be imported into the United States. We also propose to make other changes to the treatment, including the extension of the treatment time if the mangoes are to be hydrocooled within 30 minutes of the treatment.

DATES: We will consider all comments that we receive on or before February 18, 2003.

ADDRESSES: You may submit comments by postal mail/commercial delivery or by e-mail. If you use postal mail/commercial delivery, please send four copies of your comment (an original and three copies) to: Docket No. 02-026-3, Regulatory Analysis and Development, PPD, APHIS, Station 3C71, 4700 River Road Unit 118, Riverdale, MD 20737-1238. Please state that your comment refers to Docket No. 02-026-3. If you use e-mail, address your comment to regulations@aphis.usda.gov. Your comment must be contained in the body of your message; do not send attached files. Please include your name and address in your message and “Docket No. 02-026-3” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Inder P. Gadh, Import Specialist, Phytosanitary Issues Management Team, PPQ, APHIS, 4700 River Road Unit 140, Riverdale, MD 20737-1236; (301) 734-6799.

SUPPLEMENTARY INFORMATION:

Background

To prevent the introduction of plant pests into the United States, the Animal and Plant Health Inspection Service (APHIS) restricts the importation of many articles, including fruits. As a condition of importation, some fruits are required to be treated for plant pests, in accordance with our regulations in “Subpart—Fruits and Vegetables” (7 CFR 319.56 through 319.56-8, referred to below as the regulations). The Plant Protection and Quarantine (PPQ) Treatment Manual contains approved treatment schedules and is incorporated by reference into the regulations in 7 CFR 300.1.

The regulations in § 319.56-2i provide, in part, that mangoes may be imported into the United States from Central America, South America, and the West Indies if they are treated in accordance with the PPQ Treatment Manual. Similarly, mangoes from Mexico are listed in § 319.56-2x as being eligible for importation if treated in accordance with the PPQ Treatment Manual; if they are grown in a fruit-fly-free area listed in § 319.56-2(h), they do not need to be treated. Treatment is required to address the risks presented by the Mediterranean fruit fly (Medfly, Ceratitis capitata) and fruit flies of the genus Anastrepha, including the Mexican fruit fly (A. ludens).

The PPQ Treatment Manual currently provides a hot water dip treatment (treatment schedule T102-a) for mangoes from Mexico or Central America weighing up to 700 grams. Treatment schedule T102-a currently specifies that:

1. The mangoes must be treated in the country of origin at a certified facility under the monitoring of APHIS personnel.

2. Pulp temperature must be 70 °F or above before starting the treatment.

3. Fruit must be submerged at least 4 inches below the water's surface.

4. Water must circulate constantly and be kept at 115 °F throughout the treatment with the following tolerances:

• During the first 5 minutes of a treatment, temperatures below 113.7 °F are allowed if the temperature is at least 115°F at the end of the 5-minute period.

• For treatments lasting 65-75 minutes, temperatures may fall as low as 113.7 °F for no more than 10 minutes under emergency conditions.

• For treatments lasting 90 minutes, temperatures may fall as low as 113.7 °F for no more than 15 minutes under emergency conditions.

5. The duration of the hot water dip treatment is determined based on the origin, shape, and weight of the mangoes. For mangoes from Mexico or Central America, treatment schedule T102-a provides the following dip times:

Shape of mango | Weight (in grams) | Dip time (in minutes)
Flat, elongated varieties (such as Frances, Carrot, Zill, Ataulfo, Carabao, Irwin, and Manila) | Up to 375 375-570 | 65 75
Rounded varieties (such as Tommy Atkins, Kent, Hayden, and Keitt) | Up to 500 500-700 | 75 90

As indicated in the table, the upper weight limit for rounded varieties of mangoes offered for treatment is 700 grams. In order to provide exporters in Mexico and Central America with the ability to ship rounded varieties of mangoes weighing more than 700 grams to the United States, we are proposing to amend treatment schedule T102-a to provide for its use on mangoes weighing between 701 and 900 grams. Specifically, for rounded varieties of mangoes from Mexico and Central America, we would provide a dip time of 110 minutes for fruit weighing between 701 and 900 grams. We would also amend the tolerance for the 90-minute treatment, as described in item 4 above, to include the proposed 110-minute treatment so that for treatments lasting 90 to 110 minutes, temperatures may fall as low as 113.7 °F for no more than 15 minutes under emergency conditions.

Research conducted by the Department's Agricultural Research Service (ARS) has shown that the hot water dip treatment administered at 115 °F for 110 minutes to mangoes weighing 701-900 grams will kill the larvae of Medfly, Anastrepha obliqua, and A. ludens.

We are also proposing other changes to the treatment schedule based on an ARS report completed in February 2001 that states that hydrocooling immediately after hot water dip treatment compromises treatment efficacy. The report indicates that treatment efficacy can be maintained by requiring cooling of fruits in air for 30 minutes after the completion of the treatment, after which the fruit could be hydrocooled. Therefore, we propose to amend the treatment schedule by adding a note that the dip times of 65, 75, 90, and 110 minutes are valid if the fruit is not hydrocooled or is hydrocooled no sooner than 30 minutes after the completion of the hot water dip treatment. When hydrocooling is to be used within 30 minutes of treatment, an additional 10 minutes would have to be added to the treatment time. We would amend the treatment schedule to state that hydrocooling is optional and may be done for any length of time and that the temperature of the water used in hydrocooling cannot be less than 70 °F in order to minimize the risk of fruit fly survival. A copy of the ARS research data and report on which these proposed changes are based may be obtained from the person listed under FOR FURTHER INFORMATION CONTACT.

We would also amend the treatment schedule by adding provisions that mangoes must be pre-sorted by weight class and that treatment of mixed loads is not allowed. These proposed changes would clarify how the treatment is conducted. Finally, where the treatment schedule now states that water must circulate constantly and be kept at 115 °F throughout the treatment, we would state that the water temperature must be kept at 115 °F or above throughout the treatment. Adding “or above” would clarify that increases in temperature could occur in the normal course of the treatment without reducing its effectiveness.

In addition to amending treatment schedule T102-a in the PPQ Treatment Manual, we would also amend 7 CFR part 300 to update the PPQ Treatment Manual's incorporation by reference in 7 CFR 300.1 to reflect the date of the amended treatment's inclusion in the manual.

Executive Order 12866 and Regulatory Flexibility Act

This rule has been reviewed under Executive Order 12866. For this action, the Office of Management and Budget has waived its review process under Executive Order 12866.

We are proposing to amend the PPQ Treatment Manual, which is incorporated by reference at 7 CFR 300.1, to allow mangoes from Mexico or Central America weighing from 701-900 grams to be treated for Medfly and fruit flies of the genus Anastrepha with a hot water dip. Currently, the PPQ Treatment manual contains a hot water dip treatment for mangoes from Mexico or Central America that weigh up to 700 grams.

According to data from the Food and Agriculture Organization of the United Nations, the U.S. production of mangoes is supplemented with mango imports in order to satisfy the domestic demand, and that demand appears to be increasing:

Production, Import, and Export Data for Mangoes From the United States, Mexico, and Central America
[In metric tons]
Country and activity | 1997 | 1998 | 1999 | 2000
U.S. production | 2,720 | 2,720 | 2,720 | 3,000
U.S. exports | 0 | 0 | 0 | 0
U.S. imports | 186,520 | 197,393 | 219,144 | 235,080
Mexico production | 1,500,317 | 1,473,852 | 1,508,468 | 1,559,351
Mexico exports | 187,127 | 209,426 | 204,002 | 206,782
Mexico imports | 60 | 28 | 167 | 1,007
Central America production | 1,712,251 | 1,686,828 | 1,728,457 | 1,787,151
Central America exports | 204,177 | 225,406 | 220,595 | 228,653
Central America imports | 727 | 801 | 1,034 | 2,424

As shown in the table, U.S. mango imports are far greater than domestic production. U.S. production of mangoes has primarily been in southern Florida, with a smaller quantity grown in Hawaii and a negligible amount produced in California. According to the 1997 Census of Agriculture, there were 218 mango farms in Florida, 171 in Hawaii, and 2 in California. Florida accounted for about 97 percent of domestic production in that census year, while Hawaii accounted for about 3 percent of production. There are no U.S. mango exports.

The Regulatory Flexibility Act requires that agencies consider the economic effects of their rules on small entities. Whether affected entities may be considered small in this case depends on their annual gross receipts. Annual receipts of $750,000 or less is the small entity criterion set by the Small Business Administration for establishments primarily engaged in “other noncitrus fruit farming” (NAICS code 111339). As noted previously, Florida accounted for about 97 percent of mango production in 1997, thus mango producers in that State are the entities most likely to be affected by this proposed rule. Most, if not all, mango producers in Florida are small entities. According to information provided by the University of Florida's Institute of Food and Agricultural Sciences (IFAS), about 10 to 15 growers manage the bulk of the producing mango acreage in Florida. According to IFAS, about 25 percent of Florida growers produce mangoes alone, while the remaining 75 percent are diversified operations growing other tropical fruits in addition to mangoes. Florida growers occupy niche markets in the State by providing green fruit for processing into chutney and other products and by providing fresh, untreated, tree-ripened fruit for consumption. The availability of larger mangoes from Mexico and Central America in the larger U.S. market is expected to have little to no impact on Florida producers who occupy those niche markets, as producers in Mexico and Central America are not expected to be shipping green fruit for processing and would be unable to provide untreated, tree-ripened fruit to U.S. markets.

The availability of a treatment for larger mangoes of the rounded varieties is not expected to significantly affect U.S. mango producers, as the amount of those larger mangoes likely to be imported from Mexico and Central America would represent a fraction of current import levels. Moreover, much of Florida's harvest (the source of about 97 percent of domestic production in 1997) is consumed within that State or is processed into chutney and other products; these markets are unlikely to be affected by the availability of larger mangoes from Mexico and Central America. Therefore, we do not expect that the economic effects of this proposed rule on U.S. entities, large or small, would be significant.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This rule contains no new information collection or recordkeeping requirements under the Paperwork Reduction Act of 1995 (44 U.S.C. 3501 et seq.).

List of Subjects in 7 CFR Part 300

Incorporation by reference, Plant diseases and pests, Quarantine.

Accordingly, 7 CFR part 300 is amended as follows:

PART 300—INCORPORATION BY REFERENCE

1. The authority citation for part 300 continues to read as follows:

Authority: 7 U.S.C. 7701-7772; 7 CFR 2.22, 2.80, and 371.3.

2. In § 300.1, paragraph (a) would be amended as follows:

a. In paragraph (a)(4), by removing the word “and''.

b. In paragraph (a)(5), by removing the period and adding the word “; and” in its place.

c. By adding a new paragraph (a)(6) to read as follows:

§ 300.1 Plant Protection and Quarantine Treatment Manual.

(a) * * *

(6) Treatment T102-a, dated ____.

* * * * *

Done in Washington, DC, this 23rd day of December 2002.
Kevin Shea,
Acting Administrator, Animal and Plant Health Inspection Service.

[FR Doc. 02-33049 Filed 12-31-02; 8:45 am]

BILLING CODE 3410-34-P